OFFICE OF SCIENCE AND TECHNOLOGY POLICY

Nanoscale Science, Engineering, and Technology Subcommittee; Committee on Technology, National Science and Technology Council; Public Engagement Through Nano.gov Webinar

AGENCY: Executive Office of the President, Office of Science and Technology Policy.

ACTION: Notice of webinar.

SUMMARY: The National Nanotechnology Coordination Office (NNCO), on behalf of the Nanoscale Science, Engineering, and Technology (NSET) Subcommittee of the Committee on Technology, National Science and Technology Council (NSTC), will hold a webinar on September 20, 2012 to provide an open forum to answer questions and hear suggestions related to the National Nanotechnology Initiative's (NNI) public Web site, Nano.gov. Nano.gov, the primary mechanism for public engagement, was redesigned in April 2011. NNCO is seeking public comment and recommendations on potential updates to, improvements on, and opportunities for public engagement through Nano.gov.

DATES: Thursday, September 20, 2012 from 12:15 p.m. until 1 p.m.

ADDRESSES: For information about the webinar, please see www.nano.gov.

Submitting Questions: Questions may be submitted before the webinar to webinar@nnco.nano.gov beginning at noon (EDT) Wednesday, September 19, 2012 and will be accepted until the close of the webinar at 1 p.m. Thursday,

September 20, 2012. Questions submitted to webinar@nnco.nano.gov will be answered in the order received during the 20 minute question-and-answer segment of the webinar. The moderator reserves the right to group similar questions and to skip questions which are either repetitive or not germane to the topic.

Information about the webinar is posted at www.nano.gov.

The webinar will feature brief comments by public engagement and Web site subject area experts, followed by approximately 20 minutes to answer audience questions.

FOR FURTHER INFORMATION CONTACT: For information regarding this Notice, please contact Marlowe Epstein-Newman, telephone (703) 292-7128, National Nanotechnology Coordination Office. Email: webinar@nnco.nano.gov.

Ted Wackler,
Deputy Chief of Staff and Assistant Director.

[FR Doc. 2012-22676 Filed 9-12-12; 8:45 am]

BILLING CODE P